DEPARTMENT OF DEFENSE

Department of the Army; Corps of Engineers

Intent To Prepare Supplement III to the Final Environmental Impact Statement, New Orleans to Venice, LA, Hurricane Protection Project: Incorporation of Non-Federal Levees From Oakville to St. Jude, Plaquemines Parish, LA

AGENCY: Department of the Army, U.S. Army Corps of Engineers, DoD.

ACTION: Notice of Intent.

SUMMARY: The U.S. Army of Corps of Engineers, New Orleans District, is initiating this study under the authority of Public Law 109-234, Title II, Chapter 3, Flood Control and Coastal Emergencies, page 38 (120 STAT.454-455), hereinafter “4th Supplemental”, provides: “For an additional amount for ‘Flood Control and Coastal Emergencies', as authorized by section 5 of the Act of August 18, 1941 (33 U.S.C. 701n), for necessary expenses relating to the consequences of Hurricane Katrina and other hurricanes, $3,145,024,000, to remain available until expended: Provided, that the Secretary of the Army is directed to use the funds appropriated under this heading to modify, at full Federal expense, authorized projects in southeast Louisiana to provide hurricane and storm damage reduction and flood damage reduction in the greater New Orleans and surrounding areas; * * * $215,000,000 shall be used to replace or modify certain non-Federal levees in Plaquemines Parish to incorporate the levees into the existing New Orleans to Venice hurricane protection project; * * *.”

The Flood Control and Coastal Emergencies Section of Title II, Chapter 3 of the Joint Explanatory Statement of the Committee of Conference, page 115, states: “Funds totaling $3,145,024,000 are recommended to continue repairs to flood and storm damage reduction projects. These projects are to be funded at full Federal expense. * * * Additionally, the Conferees include: * * * $215,000,000 for incorporation of non-Federal levees on the west bank of the Mississippi River in Plaquemines Parish in order to provide improved storm surge protection and to protect evaucations routes; * * *”

FOR FURTHER INFORMATION CONTACT: Questions concerning the Supplemental Environmental Impact Statement (SEIS) should be addressed to Mr. Alan W. Bennett at: U.S. Army Corps of Engineers, PM-RS, P.O. Box 60267, New Orleans, LA 70160-0267, phone (504) 862-2516, fax number (504) 862-2088 or by e-mail at alan.w.bennett@mvn02.usace.army.mil.

SUPPLEMENTARY INFORMATION: 1. Proposed Action. The proposed action would replace or modify and incorporate certain non-Federal levees on the west bank of the Mississippi River in Plaquemines Parish, Louisiana into the existing New Orleans to Venice hurricane protection project. The proposed project study area includes the west bank of the Mississippi River, starting near the community of Oakville to the north and ending at St. Jude to the south. The New Orleans to Venice hurricane protection project was authorized by Public Law 87-874, as amended. Under this authority, the U.S. Army Corps of Engineers constructed a hurricane protection levee system extending along a protion of the west bank of the Mississippi River. This SEIS is being prepared as a third supplemental to the July 1974 final EIS, “New Orleans to Venice, Louisiana, Hurricane Protection Project”, filed with the Council on Environmental Quality on January 6, 1975.

The existing federally authorized hurricane protection system does not provide continuous protection from Belle Chasse to Venice. Specifically, approximately 34 miles of existing non-Federal levees in Plaquemines Parish do not provide hurricane and storm damage reduction protection to the authorized level of the New Orleans to Venice hurricane protection project. This condition exposes residents and businesses in several west bank communities and the hurricane evacuation route, Louisiana Highway 23, to a higher potential for flooding in the event of a storm or hurricane. Engineering, economic, and environmental analysis would be used to determine the most cost effective plan, which would provide for the greatest overall public benefit.

2. Alternatives. Several levee alignments are being investigated to protect these communities, businesses, the hurricane evacuation route, and to avoid wetland impacts. In addition, non-structural alternatives such as relocations or raising homes and businesses are also being developed and evaluated. Incremental analysis of costs and benefits for different reaches of the levee alignments would also be conducted. Various protection levels for the levee alignments would also be investigated.

3. Scoping. Scoping is the process for determining the scope of alternatives and significant issues to be addressed in the SEIS. A notice requesting scoping comments will be sent to affected Federal, State, and local agencies, affected Indian tribes, and all interested parties requesting their input on alternatives and issues to be evaluated in the SEIS. The notice will also notify interested parties of public scoping meetings that will be held in the local area. Notices will also be sent to local news media. All interested parties are invited to comment at this time, and anyone interested in this study should request to be included in the study mailing list.

Two public scoping meetings will be held in March 2007. The meetings will be held in the vicinity of Belle Chasse and West Pointe a la Hache. Additional meetings could be held, depending upon interest and if it is determined that further public coordination is warranted.

4. Significant Issues. The tentative list of resources and issues to be evaluated in the SEIS includes tidal wetlands (marshes and swamps), aquatic resources, commercial and recreational fisheries, wildlife resources, essential fish habitat, water quality, air quality, threatened and endangered species, recreation resources, and cultural resources. Socioeconomic items to be evaluated in the SEIS include hurricane and flood protection, business and industrial activity, employment, land use, property values, public/community facilities and services, tax revenues, population, community and regional growth, transportation, housing, community cohesion, and noise.

5. Environmental Consultation and Review. The U.S. Fish and Wildlife Service (USFWS) will be assisting in the documentation of existing conditions and assessment of effects of project alternatives through Fish and Wildlife Coordination Act consultation procedures. The USFWS will provide a Fish and Wildlife Coordination Act report. Consultation will be accomplished with the USFWS and the National Marine Fisheries Service (NMFS) concerning threatened and endangered species and their critical habitat. The NMFS will be consulted on the effects of this proposed action on essential fish habitat. The draft SEIS or a notice of its availability will be distributed to all interested agencies, organizations, and individuals.

6. Estimated Date of Availability. The earliest that the draft SEIS is expected to be available is in spring 2008.

Dated: February 16, 2007.
Richard P. Wagenaar,
Colonel, U.S. Army, District Commander.

[FR Doc. 07-850 Filed 2-23-07; 8:45 am]

BILLING CODE 3710-84-M